DEPARTMENT OF HOMELAND SECURITY

U.S. Customs and Border Protection

2024 Trade Facilitation and Cargo Security Summit Notice; Technical Correction

AGENCY: U.S. Customs and Border Protection, Department of Homeland Security.

ACTION: Notice; technical correction.

SUMMARY: On November 8, 2023, U.S. Customs and Border Protection (CBP) published a notice in the Federal Register, which announced that U.S. Customs and Border Protection (CBP) will convene the 2024 Trade Facilitation and Cargo Security (TFCS) Summit in Philadelphia, PA, on March 26-28, 2024. This technical correction corrects the November 8, 2023 notice to reflect the proper amounts for the in-person and virtual attendance registration fees. For convenience, CBP is republishing the full text of the November 8, 2023 notice below, with the corrected registration fee amounts.

DATES: Tuesday, March 26, 2024 (opening remarks and general sessions, 8:00 a.m.-5:00 p.m. EDT), Wednesday, March 27, 2024 (breakout sessions, 8:00 a.m.-5:00 p.m. EDT), and Thursday, March 28, 2024 (breakout sessions, 8:00 a.m.-12:00 p.m. EDT).

ADDRESSES: The 2024 Trade Facilitation and Cargo Security Summit will be held at the Philadelphia Marriott Downtown at 1201 Market Street, Philadelphia, PA 19107. Directional signage will be displayed throughout the event space for registration, the sessions, and the exhibits.

Registration: Registration will open January 10, 2024 at 12:00 p.m. EST and close March 14, 2024 at 4:00 p.m. EDT. Registration information, including registration links when available, may be found on the event web page at https://www.cbp.gov/trade/stakeholder-engagement/trade-facilitation-and-cargo-security-summit. All registrations must be made online and will be confirmed with payment by credit card only. The registration fee to attend in person is $346.00 per person. The registration fee to attend via webinar is $32.00. Interested parties are requested to register immediately as space is limited. Members of the public who are pre-registered to attend and later need to cancel, may do so by using the link from their confirmation email or sending an email to TFCSSummit@cbp.dhs.gov. Please include your name and confirmation number with your cancellation request. Cancellation requests made after Friday, March 1, 2024, will not receive a refund.

FOR FURTHER INFORMATION CONTACT: Mrs. Daisy Castro, Office of Trade Relations, U.S. Customs and Border Protection at (202) 344-1440 or at TFCSSummit@cbp.dhs.gov. The most current 2024 TFCS Summit information can be found at https://www.cbp.gov/trade/stakeholder-engagement/trade-facilitation-and-cargo-security-summit.

For information on facilities or services for individuals with disabilities or to request special assistance at the meeting, please contact Mrs. Daisy Castro, Office of Trade Relations, U.S. Customs and Border Protection at (202) 344-1440 or at TFCSSummit@cbp.dhs.gov, as soon as possible.

SUPPLEMENTARY INFORMATION: On November 8, 2023, U.S. Customs and Border Protection published a notice in the Federal Register (88 FR 77105), announcing that the 2024 Trade Facilitation and Cargo Security (TFCS) Summit would convene in Philadelphia, PA on March 26-28, 2024. This notice makes a technical correction to the November 8, 2023 notice to reflect the proper amount of in-person and virtual attendance registration fees.

For ease of reference, CBP is republishing the entirety of the November 8, 2023 notice, with the change described.

The format of the 2024 TFCS Summit will consist of general sessions on the first day and breakout sessions on the second and third days. The 2024 TFCS Summit will feature panels composed of CBP personnel, members of the trade community, and members of other government agencies. The panel discussions will address the Customs Trade Partnership Against Terrorism (CTPAT), the Uyghur Forced Labor Prevention Act (UFLPA), the 21st Century Customs Framework (21CCF), the Automated Commercial Environment (ACE) 2.0, and other topics of interest to the trade community. The 2024 TFCS Summit agenda can be found on the CBP website: https://www.cbp.gov/trade/stakeholder-engagement/trade-facilitation-and-cargo-security-summit.

Hotel accommodations have been made available at the Philadelphia Marriott Downtown at 1201 Market Street, Philadelphia, PA 19107. Hotel room block reservation information can be found on the event web page at https://www.cbp.gov/trade/stakeholder-engagement/trade-facilitation-and-cargo-security-summit.

Alice A. Kipel,
Executive Director, Regulations & Rulings, Office of Trade.

[FR Doc. 2023-28655 Filed 12-27-23; 8:45 am]

BILLING CODE 9111-14-P